DEPARTMENT OF HOMELAND SECURITY

Coast Guard

33 CFR Part 155

[USCG-2017-0894]

2016 National Preparedness for Response Exercise Program (PREP) Guidelines

AGENCY: Coast Guard, DHS.

ACTION: Notice of availability; request for comments.

SUMMARY: This notice announces proposed changes to the 2016 PREP Guidelines and solicits public comment to the proposed changes. The U.S. Coast Guard (USCG) is publishing this notice on behalf of the Preparedness for Response Exercise Program Compliance, Coordination, and Consistency Committee (PREP 4C). The PREP 4C includes representatives from the USCG under the Department of Homeland Security (DHS); the Environmental Protection Agency (EPA); the Pipeline and Hazardous Materials Safety Administration (PHMSA) under the Department of Transportation (DOT); and the Bureau of Safety and Environmental Enforcement (BSEE) under the Department of the Interior (DOI).

DATES: Comments and related material must reach the USCG by January 22, 2018.

ADDRESSES: To view the proposed revisions to the 2016 PREP Guidelines, go to http://www.regulations.gov, type “USCG-2017-0894” and click “Search.” Then click “Open Docket Folder.”

FOR FURTHER INFORMATION CONTACT:

For USCG: Mr. Jonathan Smith, Office of Marine Environmental Response Policy, 202-372-2675.

For EPA: Mr. Troy Swackhammer, Office of Emergency Management, Regulations Implementation Division, 202-564-1966.

For BSEE/DOI: Mr. John Caplis, Oil Spill Preparedness Division, 703-787-1364.

For PHMSA/DOT: Mr. Eddie Murphy, Office of Pipeline Safety, 202-366-4595.

SUPPLEMENTARY INFORMATION:

I. Public Participation and Request for Comments

We encourage the public to participate in revising the 2016 PREP Guidelines by submitting comments and related materials. All comments received will be posted without change to http://www.regulations.gov, and will include any personal information provided.

Submitting comments: If you submit a comment, please include the docket number (USCG-2017-0894), indicate the specific section of the revised 2016 PREP Guidelines to which each comment applies, and provide a reason for each suggestion or recommendation. You may submit your comments and material online or by fax, mail, or hand delivery, but please use only one of these means. We recommend that you include your name and mailing address, and an email address or phone number in the body of your document so that we may contact you if we have questions regarding your submission.

To submit your comment online, go to http://www.regulations.gov, type “USCG-2017-0894” in the search box, and click “Search.” Then click “Comment Now!” on the appropriate line. If you submit your comments by mail or hand delivery, submit them in an unbound format, no larger than 8½ by 11 inches, suitable for copying and electronic filing. If you submit comments by mail and would like to know that they reached the DHS Facility, please enclose a stamped, self-addressed postcard or envelope. We will consider all comments and material received during the comment period.

Viewing comments and documents: To view comments as well as documents mentioned in this notice as being available in the docket, go to http://www.regulations.gov, type “USCG-2017-0894” and click “Search.” Then click the “Open Docket Folder.”

Privacy Act: Anyone can search the electronic material submitted into any of our dockets by the name of the individual submitting the comment (or signing the comment, if submitted on behalf of an association, business, labor union, etc.). You may review a Privacy Act and system of records notice regarding our public dockets in the January 17, 2008, issue of the Federal Register (73 FR 3316).

I. Abbreviations

BSEE Bureau of Safety and Environmental Enforcement

CFR Code of Federal Regulations

DOI Department of the Interior

DOT Department of Transportation

EPA Environmental Protection Agency

FR Federal Register

IMT Incident Management Team

PHMSA Pipeline and Hazardous Materials Safety Administration

PREP Preparedness for Response Exercise Program

PREP 4C PREP Compliance, Coordination, and Consistency Committee

QI Qualified Individual

RAC Remote Assessment and Consultation

II. Background

The Preparedness for Response Exercise Program Compliance, Coordination, and Consistency Committee (PREP 4C) published the 2016 PREP Guidelines on April 11, 2016 (81 FR 21362). We are publishing this notice to seek public comments pertaining to proposed revisions to the 2016 PREP Guidelines. These proposed revisions constitute the first change to the 2016 PREP Guidelines that will hereinafter be referred to and published as the “2016.1 PREP Guidelines.” We will consider only those comments directly pertaining to the proposed revisions. These revisions are detailed in a new “Record of Changes” that has been incorporated into the 2016.1 PREP Guidelines. The 2016.1 PREP Guidelines are available for review in docket USCG-2017-0894, as described in the ADDRESSES section of this notice.

The Coast Guard is preparing a regulatory analysis of the potential deregulatory savings that may result from the revisions proposed in the 2016.1 PREP Guidelines. We will publish a Federal Register notice when the regulatory analysis is uploaded to the public docket and we will establish an additional 30-day public comment period for comments on the regulatory analysis. During the additional 30-day comment period for the regulatory analysis, the Coast Guard will also accept comments that directly pertain to the revisions proposed in the 2016.1 PREP Guidelines.

III. Summary of Changes

A “Record of Changes” has been added to the 2016.1 PREP Guidelines. This log is a comprehensive listing of the specific revisions proposed by PREP 4C. Revisions in the 2016.1 PREP Guidelines affect the USCG, Bureau of Safety and Environmental Enforcement (BSEE) and Environmental Protection Agency (EPA) exercises only. The Pipeline and Hazardous Materials Safety Administration (PHMSA) sections are unaffected by the revisions proposed in the 2016.1 PREP Guidelines.

USCG-Specific Revisions

One of the significant revisions is to the Remote Assessment and Consultation (RAC) drill frequency. The existing frequency will be decreased from one drill per vessel per year, to one drill per Plan Holder per triennial cycle. Additional revisions include allowing RAC drills to be combined with Qualified Individual (QI) drills, and adding language that states QI and Salvage and Marine Fire Fighter providers must be contacted as specified in the approved Vessel Response Plan.

BSEE-Specific Revisions

Language was added to BSEE Section 6.2 for Incident Management Team (IMT) Exercises for Offshore Facilities. The “Participating Elements” part of that section now includes information clarifying that the incident commander, as well as the command and general staffs, at a minimum, should be exercised during an IMT functional exercise. The “Participating Elements” part now also requires that source control positions participate when source control objectives are being exercised, and encourages operators to request BSEE participation for the role of a Source Control Support Coordinator when appropriate.

“Objectives” also has new language that clarifies expectations regarding the involvement of IMT members in the exercise design process. The BSEE acknowledges that there is sometimes a need to involve key members of the IMT in the selection of objectives, plan components, and issues that will be tested during an exercise. The BSEE also believes that it is important that IMT members who will be participating as players in the exercise, including the incident commander, do not have knowledge of the exercise scenario script prior to the start of the exercise. This provision will ensure that all the required IMT positions can be properly exercised and evaluated to test their overall preparedness.

EPA-Specific Revisions

Language was removed from Section 2.3.7.2.3, which addresses “Unannounced Exercises for Non-Transportation-Related Facilities Regulated by the EPA.” Section 2.3.7.2.3 had indicated that alternative response times may be approved by the EPA Regional Administrator; however, there is no supporting regulatory language in 40 CFR part 112 that specifically provides for this allowance. This change removes the language regarding alternate response times being approved by the Regional Administrator, and aligns the PREP Guidelines with the existing regulatory language in 40 CFR part 112.

This notice is issued under the authority of 5 U.S.C. 552(a).

Dated: December 19, 2017.
Joseph B. Loring,
Captain, Office of Marine Environmental Response Policy.

[FR Doc. 2017-27602 Filed 12-21-17; 8:45 am]

BILLING CODE P